ENVIRONMENTAL PROTECTION AGENCY

[FRL-8749-01-R10]

Clean Air Act Operating Permit Program; Petition for Objection to State Operating Permit for the Owens-Brockway Glass Container Inc. Facility, Multnomah County, Oregon

AGENCY: Environmental Protection Agency (EPA).

ACTION: Notice of final Order on Petition for objection to Clean Air Act title V operating permit.

SUMMARY: The Environmental Protection Agency (EPA) Administrator signed an Order, dated May 10, 2021, granting in part and denying in part a petition dated February 4, 2020, filed by EarthJustice, on behalf of Cully Air Action Team, Portland Clean Air, Oregon Environmental Council, and Verde. The Petition requested that the EPA object to a final operating permit No. 26-1876-TV-01 issued by the Oregon Department of Environmental Quality (ODEQ) to the Owens Brockway Glass Container Inc. facility located in Portland, Oregon.

ADDRESSES: The Petition (without attachments) and final Order are available electronically at: https://www.epa.gov/title-v-operating-permits/title-v-petition-database. Out of an abundance of caution for members of the public and our staff, the EPA Region 10 office is closed to the public to reduce the risk of transmitting COVID-19. Please contact the individual listed in the FOR FURTHER INFORMATION CONTACT section to view copies of the Petition, Order, and other supporting information.

FOR FURTHER INFORMATION CONTACT: Doug Hardesty at (208) 378-5759, or hardesty.doug@epa.gov.

SUPPLEMENTARY INFORMATION: Throughout this document wherever “we,” “us,” or “our” is used, it is intended to refer to the EPA.

The CAA affords the EPA a 45-day period to review and object to a title V operating permit proposed by a state permitting authority under title V of the CAA if the EPA determines the permit does not comply with the Act. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from Earthjustice on behalf of Cully Air Action Team, Portland Clean Air, Oregon Environmental Council, and Verde, dated February 4, 2020, requesting that the EPA object to the issuance of title V operating permit no. 26-1876-TV-01 for the Owens-Brockway Glass Container Inc.'s Portland, Oregon facility.

The Petition claims that: (A) The final permit lacks conditions sufficient to assure compliance with the applicable particulate matter emission limit in the New Source Performance Standard for Glass Manufacturing (40 CFR part 60, subpart CC); (B) the final permit lacks sufficient monitoring, recordkeeping, and reporting to assure compliance with the applicable particulate matter emission limit in Oregon's Clean Air Act state implementation plan; (C) the final permit lacks conditions sufficient to assure compliance with the requirement to take “reasonable precautions” to control fugitive dust; (D) the final permit fails to assure compliance with the applicable chromium emission limit under 40 CFR part 63, subpart SSSSSS; (E) the final permit fails to assure compliance with the facility's general duty to prevent accidental releases under Clean Air Act section 112(r)(1); (F) that the final permit fails to assure compliance with the Plant Site Emissions Limits (PSELs) for lead (Pb) and sulfur dioxide (SO2); and (G) the final permit unlawfully omits an enforceable compliance schedule to bring Owens-Brockway into compliance with applicable opacity and particulate matter limits.

On May 10, 2021, the EPA Administrator issued an Order granting claims A, B, and G and denying the remaining claims in the Petition. The Order explains the basis for the EPA's decision.

Sections 307(b) and 505(b)(2) of the CAA provide that the Order is subject to judicial review for those portions of the Order that deny issues raised in a petition. Any petition for review shall be filed in the United States Court of Appeals for the appropriate circuit no later than October 4, 2021.

Dated: July 27, 2021.
Michelle L. Pirzadeh,
Acting Regional Administrator, Region 10.

[FR Doc. 2021-16647 Filed 8-3-21; 8:45 am]

BILLING CODE 6560-50-P